DEPARTMENT OF HOMELAND SECURITY

Coast Guard

[Docket No. USCG-2010-0164]

National Boating Safety Advisory Council

AGENCY: U.S. Coast Guard, Department of Homeland Security.

ACTION: Notice of Federal Advisory Committee Meeting.

SUMMARY: The National Boating Safety Advisory Council and its Subcommittees will meet to discuss issues relating to recreational boating safety. These meetings will be open to the public.

DATES: Meetings: The National Boating Safety Advisory Council will meet on Tuesday, May 8, 2018, from 12:30 p.m. to 6:00 p.m. and on Thursday, May 10, 2018 from 8:30 a.m. to 11:30 a.m. The Boats and Associated Equipment Subcommittee will meet on Wednesday, May 9, 2018, from 8:30 a.m. to 10:30 a.m. The Prevention through People Subcommittee will meet on Wednesday, May 9, 2018, from 10:45 a.m. to 2:15 p.m. The Recreational Boating Safety Strategic Planning Subcommittee will meet on Wednesday, May 9, 2018, from 2:30 p.m. to 5:00 p.m. Please note that these meetings may conclude early if the National Boating Safety Advisory Council has completed all business.

Comments and supporting documents: To ensure your comments are received by Council members before the meetings, submit your written comments no later than April 30, 2018. Written comments must be submitted using Federal eRulemaking Portal at http://www.regulations.gov. If you encounter technical difficulties with comments submission, contact the individual listed in the FOR FURTHER INFORMATION CONTACT section below.

ADDRESSES: All meetings will be held in Portland, Oregon at the Broadway Room of the Hilton Portland Downtown, 921 SW Sixth Avenue, Portland, OR 97204. http://www3.hilton.com/en/hotels/oregon/hilton-portland-downtown-PDXPHHH/.

For information on facilities or services for individuals with disabilities or to request special assistance at the meeting, contact the individual listed in the FOR FURTHER INFORMATION CONTACT section below as soon as possible.

Instructions: You are free to submit comments at any time, including orally at the meetings, but if you want Council members to review your comment before the meetings, please submit your comments no later than April 30, 2018. We are particularly interested in the comments in the “Agenda” section below. You must include “Department of Homeland Security” and the docket number USCG-2010-0164. http://www.regulations.gov. Comments received will be posted without alteration at http://www.regulations.gov, including any personal information provided. For more information about privacy and docket, review the Privacy and Security Notice for the Federal Docket Management System at https://www.regulations.gov/privacyNotice.

Docket Search: For access to the docket to read documents or comments related to this notice, go to http://www.regulations.gov insert USCG-2010-0164 in the “Search” box, press Enter, then click the item you wish to view.

FOR FURTHER INFORMATION CONTACT: Mr. Jeff Ludwig, Alternate Designated Federal Officer of the National Boating Safety Advisory Council, telephone (202) 372-1061, or at jeffrey.a.ludwig@uscg.mil.

SUPPLEMENTARY INFORMATION: Notice of this meeting is given pursuant to the Federal Advisory Committee Act, Title 5, U.S.C, Appendix. Congress established the National Boating Safety Advisory Council in the Federal Boat Safety Act of 1971 (Pub. L. 92-75). The National Boating Safety Advisory Council currently operates under the authority of 46 U.S.C. 13110 and 46 U.S.C. 4302(c). The latter requires the Secretary of Homeland Security and the Commandant of the U.S. Coast Guard by delegation to consult with the National Boating Safety Advisory Council in prescribing regulations for recreational vessels and associated equipment and on other major safety matters.

Agenda

Day 1

The agenda for the National Boating Safety Advisory Council meeting is as follows:

Tuesday, May 8, 2018

(1) Opening remarks.

(2) Receipt and discussion of the following reports:

(a) Chief, Office of Auxiliary and Boating Safety update on the U.S. Coast Guard's implementation of National Boating Safety Advisory Council Resolutions and Recreational Boating Safety Program report.

(b) Alternate Designated Federal Officer's report concerning Council administrative and logistical matters.

(3) Presentation on effects of not wearing life jackets.

(4) Presentation on US Army Corps of Engineers life jacket requirements in northern Mississippi.

(5) Presentation on observed life jacket wear in “risky” situations.

(6) Presentation on role of Coast Guard District Recreational Boating Safety Specialists.

(7) Public comment period.

(8) Meeting Recess.

Day 2

Wednesday, May 9, 2018

The day will be dedicated to Subcommittee sessions:

(1) Boats and Associated Equipment Subcommittee. Issues to be discussed include alternatives to pyrotechnic visual distress signals; grant projects related to boats and associated equipment; and situational awareness.

(2) Prevention Through People Subcommittee. Issues to be discussed include paddlesports participation; human factors and classification system integration into accident reporting; and licensing requirements for on-water boating safety instruction providers.

(3) Recreational Boating Safety Strategic Planning Subcommittee. Issues to be discussed include progress on implementation of the 2017-2021 Strategic Plan.

DAY 3

Thursday, May 10, 2018

The full Council will resume meeting.

(1) Receipt and discussion of the Boats and Associated

Equipment, Prevention through People and Recreational Boating Safety Strategic Planning Subcommittee reports.

(2) Discussion of any recommendations to be made to the U.S. Coast Guard.

(3) Public comment period.

(4) Voting on any recommendations to be made to the U.S. Coast Guard.

(5) Adjournment of meeting.

There will be a comment period for the National Boating Safety Advisory Council members and a comment period for the public after each report presentation, but before each is voted on by the Council. The Council members will review the information presented on each issue, deliberate on any recommendations presented in the Subcommittees' reports, and formulate recommendations for the Department's consideration.

The meeting agenda and all meeting documentation can be found at: https://homeport.uscg.mil/missions/ports-and-waterways/safety-advisory-committees/nbsac.

Alternatively, you may contact Mr. Jeff Ludwig as noted in the FOR FURTHER INFORMATION CONTACT section above.

Public comments or questions will be taken throughout the meeting as the Council discusses the issues and prior to deliberations and voting. There will also be a public comment period at the end of the meeting. Speakers are requested to limit their comments to 3 minutes. Please note that the public comment period may end before the period allotted, following the call for comments. Contact the individual listed in the FOR FURTHER INFORMATION CONTACT section above to register as a speaker.

Dated: March 29, 2018.
Jason D. Neubauer,
Captain, U.S. Coast Guard, Acting Director of Inspections and Compliance.

[FR Doc. 2018-06865 Filed 4-3-18; 8:45 am]

BILLING CODE 9110-04-P